DEPARTMENT OF TRANSPORTATION

Office of the Secretary

Notice of Applications for Certificates of Public Convenience and Necessity and Foreign Air Carrier Permits Filed Under Subpart B (Formerly Subpart Q) During the Week Ending March 21, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0113.

Date Filed: March 17, 2008.

Due Date for Answers, Conforming Applications, or Motion to Modify Scope: April 7, 2008.

Description: Application of Oceanair Linhas Aereas Ltda. requesting exemption authority and a foreign air carrier permit authorizing it to engage in scheduled foreign air transportation of persons, property and mail between Sao Paulo, Brazil and Los Angeles, California.

Docket Number: DOT-OST-2008-0114.

Date Filed: March 17, 2008.

Due Date for Answers, Conforming Applications, or Motion to Modify Scope: April 7, 2008.

Description: Joint Application of Scenic Airlines, Inc. (Scenic) and Grand Canyon Airlines, Inc. (GCA) requesting the transfer to GCA of the certificate of public convenience and necessity, authorizing Scenic to engage in interstate scheduled air transportation of persons, property and mail.

Docket Number: DOT-OST-2008-0117.

Date Filed: March 21, 2008.

Due Date for Answers, Conforming Applications, or Motion to Modify Scope: April 11, 2008.

Description: Application of Blue Line requesting an exemption and a foreign air carrier permit authorizing it to provide: (i) Charter foreign air transportation of persons, property and mail from points behind EU Member States, via the EU Member States and intermediate points to any point or points in the United States and beyond; (ii) charter foreign air transportation of persons, property and mail between any point or points in the United States and any point or points in the European Common Aviation Area (“ECAA”); and (iii) other charters.

Docket Number: DOT-OST-2008-0118.

Date Filed: March 21, 2008.

Due Date for Answers, Conforming Applications, or Motion to Modify Scope: April 11, 2008.

Description: Application of Cargo B Airlines NV/SA (“Cargo B”) requesting an exemption and a foreign air carrier permit authorizing Cargo B to engage in: (i) Foreign scheduled and charter air transportation of property and mail from any point or points behind any Member State of the European Union, via any point or points in any EU Member State and via intermediate points, to any point or points in the United States and beyond; (ii) foreign scheduled and charter air transportation of property and mail between any point or points in the United States and any other point or points worldwide; (ii) other cargo charter; and (iv) transportation authorized by any additional route rights made available to European Community carriers in the future.

Renee V. Wright,
Program Manager, Docket Operations, Federal Register Liaison.

[FR Doc. E8-13507 Filed 6-13-08; 8:45 am]

BILLING CODE 4910-9X-P